DEPARTMENT OF COMMERCE

International Trade Administration

Duty Drawback Practice in Antidumping Proceedings

AGENCY: Import Administration, International Trade Administration, Department of Commerce.

DATE: August 3, 2005.

ACTION: Extension of Comment Period

SUMMARY: On June 30, 2005, the Department of Commerce (the Department) published a notice in the Federal Register requesting comments regarding its practice with respect to duty drawback adjustments to export price in antidumping proceedings (70 FR 37764). The Department has decided to extend the comment period by one week, making the new deadline for the submission of public comments August 15, 2005. Written comments (original and six copies) should be sent to the Assistant Secretary for Import Administration, U.S. Department of Commerce, Central Records Unit, Room 1870, 14th Street and Constitution Ave., NW, Washington, DC 20230.

FOR FURTHER INFORMATION CONTACT: John C. Kalitka, Office of Policy, Import Administration, U.S. Department of Commerce, Room 3712, 14th Street and Constitution Ave., NW, Washington, DC 20230, (202) 482-2730.

SUPPLEMENTARY INFORMATION:

Comments--Deadline, Format, and Number of Copies

The Department is extending the deadline for submission of comments by one week, making the new deadline August 15, 2005. Persons wishing to comment should file a signed original and six copies of each set of comments by the date specified above. The Department will consider all comments received before the close of the comment period. Comments received after the end of the comment period will be considered, if possible, but their consideration cannot be assured. The Department will not accept comments accompanied by a request that a part or all of the material be treated confidentially because of its business proprietary nature or for any other reason. The Department will return such comments and materials to the persons submitting the comments and will not consider them in the development of any changes to its practice. All comments responding to this notice will be a matter of public record and will be available for public inspection and copying at Import Administration's Central Records Unit, Room B-099, between the hours of 8:30 a.m. and 5 p.m. on business days. The Department requires that comments be submitted in written form. The Department recommends submission of comments in electronic form to accompany the required paper copies. Comments filed in electronic form should be submitted either by e-mail to the webmaster below, or on CD-ROM, as comments submitted on diskettes are likely to be damaged by postal radiation treatment.

Comments received in electronic form will be made available to the public in Portable Document Format (PDF) on the Internet at the Import Administration Web site at the following address: http://ia.ita.doc.gov/.

Any questions concerning file formatting, document conversion, access on the Internet, or other electronic filing issues should be addressed to Andrew Lee Beller, Import Administration Webmaster, at (202) 482-0866, e-mail address: webmaster-support@ita.doc.gov.

Dated: July 28, 2005.
Joseph A. Spetrini,
Acting Assistant Secretary for Import Administration.

[FR Doc. E5-4129 Filed 8-2-03; 8:45 am]

BILLING CODE 3510-DS-S